FEDERAL COMMUNICATIONS COMMISSION

[MB Docket No. 11-43; DA 23-1119; FRS 190156]

Audio Description: Preliminary Nonbroadcast Network Rankings

AGENCY: Federal Communications Commission.

ACTION: Notice.

SUMMARY: FCC announces the top national nonbroadcast network rankings from the 2022-2023 ratings year, and gives networks the opportunity to seek exemption from the July 1, 2024 update to the Commission's audio description requirements.

DATES: Exemption requests are due January 19, 2024.

ADDRESSES: Filings should be submitted electronically in MB Docket No. 11-43 by accessing the Commission's Electronic Comment Filing System (ECFS) at https://www.fcc.gov/ecfs/. Filers should follow the instructions provided on the website for submitting filings.

FOR FURTHER INFORMATION CONTACT: For further information, contact Diana Sokolow (202-418-0588; Diana.Sokolow@fcc.gov).

SUPPLEMENTARY INFORMATION: This is a summary of the Media Bureau's Public Notice, DA 23-1119, released on November 30, 2023. The full text of this public notice will be available electronically in ASCII, Microsoft Word, and/or Adobe Acrobat via ECFS. Alternative formats are available for people with disabilities (Braille, large print, electronic files, audio format), by sending an email to fcc504@fcc.gov or calling the Commission's Consumer and Governmental Affairs Bureau at (202) 418-0530 (voice), 1-844-4-FCC-ASL (1-844-432-2275) (videophone).

Synopsis

The Commission's audio description rules require multichannel video programming distributor (MVPD) systems that serve 50,000 or more subscribers to provide 87.5 hours of audio description ¹ per calendar quarter on channels carrying each of the top five national nonbroadcast networks.² The top five national nonbroadcast networks are defined by an average of the national audience share during prime time among nonbroadcast networks that reach 50 percent or more of MVPD households and have at least 50 hours per quarter of prime time programming that is not live or near-live or otherwise exempt under the audio description rules.

¹ Audio description makes video programming accessible to individuals who are blind or visually impaired through “[t]he insertion of audio narrated descriptions of a television program's key visual elements into natural pauses between the program's dialogue.” 47 CFR 79.3(a)(3).

² The rule requires that 50 hours per calendar quarter be provided in prime time or during children's programming, while the additional 37.5 hours may be provided at any time between 6 a.m. and 11:59 p.m. local time.

In accordance with the Commission's rules, the list of top five nonbroadcast networks is updated at three year intervals to account for changes in ratings, and the fourth triennial update will occur on July 1, 2024, based on the 2022 to 2023 ratings year.³ According to data provided by the Nielsen Company, for the purposes of our requirements, the top ten nonbroadcast networks for the 2022 to 2023 ratings year are: Fox News Channel, ESPN, MSNBC, HGTV, Hallmark, TLC, TNT, TBS, Discovery, and History.

³ The nonbroadcast networks currently subject to the audio description requirements are TLC, HGTV, Hallmark, History, and TBS. We note that the Media Bureau granted TBS a limited waiver of section 79.3(b)(4) of the audio description rules for the triennial period beginning on July 1, 2021 and ending on June 30, 2024.

If a program network believes it should be excluded from the list of top five networks covered by the audio description requirements because it does not air at least 50 hours per quarter of prime time programming that is not live or near-live or is otherwise exempt, it must seek an exemption no later than 30 days after publication of this Public Notice in the Federal Register. The Media Bureau will promptly evaluate requests for exemption and will provide notice of any resulting revisions to the list.

Federal Communications Commission.
Thomas Horan,
Chief of Staff, Media Bureau.

[FR Doc. 2023-27954 Filed 12-19-23; 8:45 am]

BILLING CODE 6712-01-P